DEPARTMENT OF ENERGY

Federal Energy Regulatory Commission

[Docket No. IC15-3-000]

Commission Information Collection Activities, (FERC-567 and FERC-587), Comment Request

AGENCY: Federal Energy Regulatory Commission, Energy.

ACTION: Comment request.

SUMMARY: In compliance with the requirements of the Paperwork Reduction Act of 1995, 44 U.S.C. 3507(a)(1)(D), the Federal Energy Regulatory Commission (Commission or FERC) is submitting these information collections [FERC-567 (Gas Pipeline Certificates: Annual Reports of System Flow Diagrams and System Capacity) and FERC-587 (Land Description (Public Land States/Non-Public Land States [Rectangular or Non-Rectangular Survey System Lands in Public Land States])] to the Office of Management and Budget (OMB) for review of the information collection requirements. Any interested person may file comments directly with OMB and should address a copy of those comments to the Commission as explained below. The Commission previously issued a Notice in the Federal Register (80 FR 19308, 4/10/2015) requesting public comments. The Commission received no comments on neither the FERC-567 nor FERC-587 and is making this notation in its submittal to OMB.

DATES: Comments on the collection of information are due by July 22, 2015.

ADDRESSES: Comments filed with OMB, identified by the OMB Control No. 1902-0005 (FERC-567) and 1902-0145 (FERC-587) should be sent via email to the Office of Information and Regulatory Affairs: oira_submission@omb.gov. Attention: Federal Energy Regulatory Commission Desk Officer. The Desk Officer may also be reached via telephone at 202-395-4718.

A copy of the comments should also be sent to the Commission, in Docket No. IC15-3-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC-567, [Gas Pipeline Certificates: Annual Reports of System Flow Diagrams and System Capacity]

OMB Control No.: 1902-0005.

Abstract: The Commission uses the information from the FERC-567 to obtain accurate data on pipeline facilities and the peak capacity of these facilities. Additionally, the Commission validates the need for new facilities proposed by pipelines in certificate applications. By modeling an applicant's pipeline system, Commission staff utilizes the FERC-567 data to determine configuration and location of installed pipeline facilities; verify and determine the receipt and delivery points between shippers, producers and pipeline companies; determine the location of receipt and delivery points and emergency interconnections on a pipeline system; determine the location of pipeline segments, laterals and compressor stations on a pipeline system; verify pipeline segment lengths and pipeline diameters; justify the maximum allowable operating pressures and suction and discharge pressures at compressor stations; verify the installed horsepower and volumes compressed at each compressor station; determine the existing shippers and producers currently using each pipeline company; verify peak capacity on the system; and develop and evaluate alternatives to the proposed facilities as a means to mitigate environmental impact of new pipeline construction.

18 Code of Federal Regulations (CFR) 260.8(a) requires each major natural gas pipeline with a system delivery capacity exceeding 100,000 Mcf ¹ per day to submit by June 1 of each year, diagrams reflecting operating conditions on the pipeline's main transmission system during the previous 12 months ended December 31. These physical/engineering data are not included as part of any other data collection requirement.

¹ “Mcf” is an abbreviation denoting a thousand cubic feet of natural gas.

Type of Respondent: Applicants proposing hydropower projects on (or changes to existing projects located within) lands owned by the United States.

Estimate of Annual Burden: The Commission estimates the annual public reporting burden for the information collection as:

FERC-567—Gas Pipeline Certificates: Annual Reports of System Flow Diagrams and System Capacity
| Number of respondents | Annual number of responses per respondent | Total number of responses | Average burden hours and cost per response ² | Total annual burden hours and total annual cost | Cost per respondent ($)
| (1) | (2) | (1)*(2)=(3) | (4) | (3)*(4)=(5) | (5)÷(1)
FERC-567 Applicants | 93 | 1 | 93 | 3 $216 | 279 $20,088 | $216

FERC-587, [Land Description (Public Land States/Non-Public Land States [Rectangular or Non-Rectangular Survey System Lands in Public Land States])]

OMB Control No.: 1902-0145.

² The estimates for cost per response are derived using the following formula: Average Burden Hours per Response * $72 per Hour = Average Cost per Response. The hourly cost figure comes from the FERC average salary. Subject matter experts found that industry employment costs closely resemble FERC's regarding the FERC-567 information collection.

Abstract: The Commission requires the FERC-587 information collection to satisfy the requirements of section 24 of the Federal Power Act (FPA). The Federal Power Act grants the Commission authority to issue licenses for the development and improvement of navigation and for the development, transmission, and utilization of power across, along, from or in any of the steams or other bodies of water over which Congress has jurisdiction.³ The Electric Consumers Protection Act (ECPA) amends the FPA to allow the Commission the responsibility of issuing licenses for nonfederal hydroelectric plants.⁴ section 24 of the FPA requires that applicants proposing hydropower projects on (or changes to existing projects located within) lands owned by the United States to provide a description of the applicable U.S. land. Additionally, the FPA requires the notification of the Commission and Secretary of the Interior of the hydropower proposal. FERC-587 consolidates the information required and identifies hydropower project boundary maps associated with the applicable U.S. land.

³ 16 U.S.C. Section 797d (2010)

⁴ Public Law 99-495, 100 Stat. 1243 (1996)

The information consolidated by the Form No. 587 verifies the accuracy of the information provided for the FERC-587 to the Bureau of Land Management (BLM) and the Department of the Interior (DOI). Moreover, this information ensures that U.S. lands can be reserved as hydropower sites and withdrawn from other uses.

Type of Respondent: Applicants proposing hydropower projects on (or changes to existing projects located within) lands owned by the United States.

Estimate of Annual Burden: The Commission estimates the annual public reporting burden for the information collection as:

FERC-587—Land Description (Public Land States/Non-Public Land States [Rectangular or Non-Rectangular Survey System Lands in Public Land States])
| Number of respondents | Annual number of responses per respondent | Total number of responses | Average burden hours and cost per response ² | Total annual burden hours and total annual cost | Cost per respondent ($)
| (1) | (2) | (1)*(2)=(3) | (4) | (3)*(4)=(5) | (5)÷(1)
Hydropower Project Applicants | 137 | 1 | 137 | 1 $72 | 137 $9,864 | $72

Dated: June 16, 2015.
Kimberly D. Bose,
Secretary.

[FR Doc. 2015-15233 Filed 6-19-15; 8:45 am]

BILLING CODE 6717-01-P